DEPARTMENT OF AGRICULTURE

Rural Housing Service

Notice of Request for Extension of a Currently Approved Information Collection

AGENCY: Rural Housing Service, USDA.

ACTION: Proposed collection; comment request.

SUMMARY: In accordance with the Paperwork Reduction Act of 1995, this notice announces the Rural Housing Service's (RHS) intention to request an extension for a currently approved information collection in support of the Section 502 Rural Housing Demonstration Program.

DATES: Comments on this notice must be received by June 7, 2004,to be assured of consideration.

FOR FURTHER INFORMATION CONTACT: Gloria L. Denson, Loan Specialist, Single Family Housing Direct Loan Division, RHS, U.S. Department of Agriculture, STOP 0783, South Building, Washington, DC 20250, Telephone 202-720-1474. (This is not a toll free number.)

SUPPLEMENTARY INFORMATION: Title: Section 502 Rural Housing Demonstration Program.

OMB Number: 0575-0114.

Expiration Date of Approval: October 31, 2004.

Type of Request: Extension of a currently approved information collection.

Abstract: Under section 506 (b), RHS may provide loans for innovative housing units and systems which do not meet existing published standards, rules, regulations or policies. The intended effect is to increase the availability of affordable rural housing for low-income families through innovative designs and systems.

Estimate of Burden: Public reporting burden for this collection of information is estimated to average 80 hours to complete the application, Proposal Content and Criteria, including additional material, specifications and blueprints.

Respondents: Business or other for profit.

Estimate Number of Respondents: 25.

Estimated Number of Responses Per Respondent: 1.

Estimated Total Annual Burden on Respondents: 2,000 hours.

Copies of this information collection can be obtained from Brigitte Sumter, Regulations and Paperwork Management Branch, at (202) 692-0042.

Comments: Comments are invited on: (a) Whether the proposed collection of information is necessary for the proper performance of the functions of RHS, including whether the information will have practical utility; (b) the accuracy of RHS's estimates of the burden of the proposed collection of information including the validity of the methodology and assumptions used; (c) ways to enhance the quality, utility, and clarity of the information to be collected; and (d) ways to minimize the burden of the collection of information on those who are to respond, including the use of appropriate automated, electronic, mechanical, or other technological collection techniques or other forms of information technology. Comments may be sent to Brigitte Sumter, Regulations and Paperwork Management Branch, U.S. Department of Agriculture, Rural Development, Stop 0742, Washington, DC 20250. All responses to this notice will be summarized and included in the request for OMB approval. All comments will also become a matter of public record.

Dated: March 19, 2004.
Arthur A. Garcia,
Administrator, Rural Housing Service.

[FR Doc. 04-7698 Filed 4-5-04; 8:45 am]

BILLING CODE 3410-XV-P